NATIONAL SCIENCE FOUNDATION

Sunshine Act Meetings

The National Science Board hereby gives notice of the scheduling of a teleconference of the Committee on Oversight for the transaction of National Science Board business pursuant to the NSF Act and the Government in the Sunshine Act.

TIME AND DATE: Thursday April 28, 2022, from 12:00-1:00 p.m. EDT.

PLACE: This meeting will be held by teleconference organized through the National Science Foundation.

STATUS: Open.

MATTERS TO BE CONSIDERED: The agenda is: Committee Chair's Opening Remarks; Approval of prior Committee minutes; Office of the Inspector General (OIG) update; CFO update; Discussion of Committee on Oversight work.

CONTACT PERSON FOR MORE INFORMATION: Point of contact for this meeting is: Chris Blair, cblair@nsf.gov, 703/292-7000. Members of the public can observe this meeting through a YouTube livestream. Meeting information including a YouTube link is available from the NSB website at https://www.nsf.gov/nsb/meetings/index.jsp#up.

Chris Blair,
Executive Assistant to the National Science Board Office.

[FR Doc. 2022-09038 Filed 4-25-22; 8:45 am]

BILLING CODE 7555-01-P